DEPARTMENT OF THE INTERIOR

National Park Service

[NPS-WASO-NAGPRA-22874; PPWOCRADN0-PCU00RP14.R50000]

Notice of Inventory Completion: Murray State University Archaeology Laboratory, Murray, KY

AGENCY: National Park Service, Interior.

ACTION: Notice.

SUMMARY: The Murray State University Archaeology Laboratory has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the Murray State University Archaeology Laboratory. If no additional requestors come forward, transfer of control of the human remains to the Indian tribes or Native Hawaiian organizations stated in this notice may proceed.

DATES: Representatives of any Indian tribe or Native Hawaiian organization not identified in this notice that wish to request transfer of control of these human remains should submit a written request with information in support of the request to the Director of the Murray State University Archaeology Laboratory at the address in this notice by April 6, 2017.

ADDRESSES: Dr. Anthony Ortmann, Director, Murray State University Archaeology Laboratory, Blackburn Science Building 334, Murray State University, Murray, KY 42071, telephone (270) 809-6755, email aortmann@murraystate.edu.

SUPPLEMENTARY INFORMATION: Notice is here given in accordance with the Native American Graves Protection and Repatriation Act (NAGPRA), 25 U.S.C. 3003, of the completion of an inventory of human remains under the control of the Murray State University Archaeology Laboratory, Murray, KY. The human remains were removed from various counties in Kentucky and one county in Tennessee.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Murray State University Archaeology Laboratory professional staff in consultation with representatives of the Absentee-Shawnee Tribe of Oklahoma, Eastern Band of Cherokee, Eastern Shawnee Tribe of Oklahoma, Miami Tribe of Oklahoma, Peoria Tribe of Indians of Oklahoma, Shawnee Tribe, The Chickasaw Nation, and The Quapaw Tribe of Oklahoma. The following tribes were invited to consult but did not participate: Cherokee Nation and United Keetoowah Band of Cherokee Indians in Oklahoma in Oklahoma.

History and Description of the Remains

On an unknown date in the 1980s, human remains representing, at minimum, three individuals were removed from the Twin Mounds site (15Ba2) in Ballard County, KY. Archeological research at the Twin Mounds site (15Ba2) was undertaken by the University of Illinois as part of their Western Kentucky Project. The human remains from the Twin Mounds site (15Ba2) were transferred to the Murray State University Archaeology Laboratory sometime between 2001 and 2005. The human remains consist of 27 fragments of human bone, all of indeterminate age and sex. The Twin Mounds site (15Ba2) likely dates to the Mississippi Period (A.D. 1000-1600). No known individuals were identified. No associated funerary objects are present.

On an unknown date, human remains representing, at minimum, three individuals were removed from site 15Ba42 in Ballard County, KY, during surface collections by unknown individuals. These human remains consist of 100 specimens including skull fragments, mandible fragments, vertebral fragments, and possible ulna, radius, fibula, humerus, femur, and/or tibia fragments, all of indeterminate age and sex. These human remains were discovered in the collections maintained by the Murray State University Archaeology Laboratory. The date of the site associated with the human remains is unknown. No known individuals were identified. No associated funerary objects are present.

On an unknown date in 1981, human remains representing, at minimum, one individual were removed from the Backusburg site (15Cw65) in Calloway County, KY. These human remains consist of 1 small, unidentifiable specimen that was collected from the back dirt pile of a looter's pit by Dr. Kenneth Carstens. The Backusburg site (15Cw65) likely dates to the Mississippi Period (A.D. 1000-1600). Neither age nor sex could be determined for this skeletal element. No known individual was identified. No associated funerary objects are present.

On an unknown date in the early 1970s, human remains representing, at minimum, four individuals were removed from the Backusburg site (15Cw65) in Calloway County, KY. These human remains consist of 60 specimens that were recovered by an amateur archeologist and donated to the Murray State University Archaeology Laboratory in 2003. The specimens consist of fragments of a human femur, fibula, tibia, humerus, and ulna, as well as skull, mandible, scapula, vertebral, and sacrum fragments. Age and sex could not be determined for any of these specimens. The Backusburg site (15Cw65) likely dates to the Mississippi Period (A.D. 1000-1600). No known individuals were identified. No associated funerary objects are present.

On an unknown date in the 1970s, human remains representing, at minimum, one individual were removed from an unnamed and unnumbered site near the town of Hardin in Calloway County, KY. These human remains consist of 100 fragments of human bone that were recovered by an amateur archeologist and donated to the Murray State University Archaeology Laboratory in 2003. Skeletal elements include skull fragments, rib fragments, sacrum fragments, vertebral fragments, and one unidentified long bone fragment. Neither age nor sex could be determined for any of the specimens. The age of the site is unknown. No known individual was identified. No associated funerary objects are present.

On an unknown date in the 1980s, human remains representing, at minimum, 12 individuals were removed from the Turk site (15Ce6) in Carlisle County, KY. Archeological research at the Turk site was undertaken by the University of Illinois as part of their Western Kentucky Project. These human remains were transferred to the Murray State University Archaeology Laboratory sometime between 2001 and 2005. These human remains consist of 848 specimens including at least nine infants or children and at least three adults. The sex of the individuals could not be determined. The Turk site (15Ce6) likely dates to the Mississippi Period (A.D. 1000-1600). No known individuals were identified. No associated funerary objects are present.

On an unknown date in the 1980s, human remains representing, at minimum, ten individuals were removed from the Adams site (15Fu4) in Fulton County, KY. Archeological research at the Adams site was undertaken by the University of Illinois as part of their Western Kentucky Project. These human remains were transferred to the Murray State University Archaeology Laboratory sometime between 2001 and 2005. These human remains consist of 463 specimens including at least three children or infants. No other age of sex characteristics could be determined. The Adams site (15Fu4) likely dates to the Mississippi Period (A.D. 1000-1600). No known individuals were identified. No associated funerary objects are present.

On an unknown date in the 1980s, human remains representing, at minimum, one individual were removed from the Sassafras Ridge site (15Fu3) in Fulton County, KY. Archeological research at the Sassafras Ridge site was undertaken by the University of Illinois as part of their Western Kentucky Project. These human remains were transferred to the Murray State University Archaeology Laboratory sometime between 2001 and 2005. The Sassafras Ridge site (15Fu3) likely dates to the Mississippi Period (A.D. 1000-1600). These human remains consist of 15 fragments of human bone. Age and sex could not be determined for any of the specimens. No known individual was identified. No associated funerary objects are present.

On an unknown date, human remains representing, at minimum, one individual were removed from the Stahr Hill site (15Fu45) in Fulton County, KY. These human remains were obtained during surface collection. There is no record regarding who collected the human remains or how they got into the Murray State University Archaeology Laboratory collections. The Stahr Hill site (15Fu45) is of unknown age. The human remains consist of a single tooth. Age and sex could not be determined for this specimen. No known individual was identified. No associated funerary objects are present.

On an unknown date in the 1970s, human remains representing, at minimum, one individual were removed from the Jonathan Creek site (15Ml4) in Marshall County, KY. These human remains were removed by an amateur archeologist and were subsequently donated to the Murray State University Archaeology Laboratory in 2003. The Jonathan Creek site (15Ml4) likely dates to the Mississippi Period (A.D. 1000-1600). The human remains consist of 40 fragments including cranial elements, vertebral elements, and one fragment of a radius. Age and sex could not be determined for any of the specimens. No known individual was identified. No associated funerary objects are present.

On an unknown date, human remains representing, at minimum, two individuals were removed from the Hardin site (15Ml82) in Marshall County, KY. These human remains were obtained during surface collection, but there is no record regarding who collected the human remains or how they got into the Murray State University Archaeology Laboratory collections. The Hardin site (15Ml82) is of unknown age. The human remains consist of nine fragmentary bones including cranial elements and possibly unidentified long bone elements. Age and sex could not be determined for any of these specimens. No known individuals were identified. No associated funerary objects are present.

On an unknown date in 1981, human remains representing, at minimum, one individual were removed from the Reed site (15McN51) in McCracken County, KY. These human remains were removed during excavation by field school students at Murray State University and subsequently curated in the collections of the Murray State University Archaeology Laboratory. The Reed site (15McN51) likely dates to the Mississippi Period (A.D. 1000-1600). The human remains consist of eight fragments including two skull fragments, one navicular fragment, and five unidentified fragments. Age and sex could not be determined for any of the specimens. No known individual was identified. No associated funerary objects are present.

On an unknown date in the 1980s, human remains representing, at minimum, two individuals were removed from the Crawford Lake site (15McN18) in McCracken County, KY. These human remains were removed during archaeological investigations by the University of Illinois as part of their Western Kentucky Project and transferred to the Murray State University Archaeology Laboratory sometime between 2001 and 2005. The Crawford Lake site (15McN18) likely dates to the Mississippi Period (A.D. 1000-1600). The human remains consist of 24 specimens recovered from disturbed contexts. Age and sex have not been determined for any of the specimens. No known individuals were identified. No associated funerary objects are present.

The land in Ballard, Calloway, Carlisle, Fulton, Marshall, and McCracken counties, KY, from which the Native American human remains were removed, is the aboriginal land of The Chickasaw Nation.

On an unknown date, human remains representing, at minimum, 25 individuals were removed from the Savage Cave site (15Lo11) in Logan County, KY. Some of these human remains consist of out-of-context human remains that were donated to the Murray State University Archaeology Laboratory by the site's previous owner, Genevieve Savage. Other human remains from the Savage Cave site were recovered from back dirt piles associated with looter's pits during visits by Murray State University archeologists in 1991, 1994, and 1997. Some of the human remains from the Savage Cave site were recovered during excavations by the Carnegie Institute during the late 1960s. The Savage Cave site had a long history of occupation and use throughout the prehistoric period. The human remains from the Savage Cave site include a total of 260 specimens including both whole and fragmentary human remains. Some skeletal elements of children and infants are present in the collection, otherwise no age or sex determinations were possible. No known individuals were identified. No associated funerary objects are present.

The land in Logan County, KY, from which the Native American human remains were removed, is the aboriginal land of the Cherokee Nation, Eastern Band of Cherokee Indians, and United Keetoowah Band of Cherokee Indians in Oklahoma.

On an unknown date in the 1960s, human remains representing, at minimum, one individual were removed from site 15Tr7 in Trigg County, KY. These human remains were removed by a graduate student from the University of Illinois and housed there until 2006 when they were transferred to the Murray State University Archaeology Laboratory. The age of site 15Tr7 is unknown. The human remains from site 15Tr7 consist of 86 specimens including cranial and long bone fragments. Age and sex could not be determined for any of these specimens. No known individual was identified. No associated funerary objects are present.

On an unknown date in the 1970s, human remains representing, at minimum, one individual were removed from an unnamed and unnumbered site in Stewart County, TN. These human remains were recovered by an amateur archaeologist and subsequently donated to the Murray State University Archaeology Laboratory in 2003. The age of the site is unknown. The human remains from the site consist of 137 specimens including cranial, mandible, rib, scapula, and vertebral fragments. Age and sex could not be determined for any of these specimens. No known individual was identified. No associated funerary objects are present.

On an unknown date in the 1970s, human remains representing, at minimum, two individuals were recovered from the Bear Creek site (40Sw23) in Stewart County, TN. These human remains were recovered during Murray State University archeological field school excavations and subsequently curated in the Murray State University Archaeology Laboratory. The age of the Bear Creek site (40Sw23) is unknown. The human remains from the site consist of 176 specimens including vertebral, cranial, and long bone fragments. At least two individuals were either infants or children. No other age or sex determinations could be made. No known individuals were identified. No associated funerary objects are present.

The land in Trigg County, KY, and Stewart County, TN, from which the Native American human remains were removed, is the aboriginal land of the Cherokee Nation, Eastern Band of Cherokee Indians, The Chickasaw Nation, and United Keetoowah Band of Cherokee Indians in Oklahoma.

Between May 25, 2001, and July 5, 2001, human remains representing, at minimum, seven individuals were removed from site 15Hk280 in Hopkins County, KY, by Thor Olmanson as part of a cultural resources management assessment. The human remains were transferred to the Murray State University Archaeology Laboratory in 2003. This site is a rock shelter and test excavations revealed that it had been thoroughly looted prior to the archeological assessment. As a result, all recovered human remains were out of context. The human remains removed from site 15Hk280 consist of 139 fragmentary specimens ranging in age from subadult to adult. No sex determinations could be made. No known individuals were identified. No associated funerary objects are present.

The land in Hopkins County, KY, from which the Native American human remains were removed, is the aboriginal land of the Cherokee Nation, Eastern Band of Cherokee Indians, Shawnee Tribe, and United Keetoowah Band of Cherokee Indians in Oklahoma.

On an unknown date in the 1970s, human remains representing, at minimum, one individual were removed from the Sanders site in Livingston County, KY. These human remains were surface collected by an amateur archeologist and subsequently transferred to the Murray State University Archaeology Laboratory in 2003. The age of the Sanders site is unknown. The human remains from the site consist of a total of 137 specimens including cranial elements, vertebral fragments, rib fragments, long bone fragments, and phalanges. No age or sex determinations could be made. No known individual was identified. No associated funerary objects are present.

The land in Livingston County, KY, from which the Native American human remains were removed, is the aboriginal land of the Cherokee Nation, Eastern Band of Cherokee Indians, Shawnee Tribe, The Chickasaw Nation, and United Keetoowah Band of Cherokee Indians in Oklahoma.

Determinations Made by the Murray State University Archaeology Laboratory

Officials of the Murray State University Archaeology Laboratory have determined that:

• Pursuant to 25 U.S.C. 3001(9), the human remains described in this notice are Native American based on osteological evidence, association with prehistoric archaeological sites, and their geographic and temporal affiliation which is consistent with the historically documented territory of the Cherokee Nation, Eastern Band of Cherokee Indians, Shawnee Tribe, The Chickasaw Nation, and United Keetoowah Band of Cherokee Indians in Oklahoma.

• Pursuant to 25 U.S.C. 3001(9), the human remains described in this notice represent the physical remains of at least 79 individuals of Native American ancestry.

• Pursuant to 25 U.S.C. 3001(2), a relationship of shared group identity cannot be reasonably traced between the Native American human remains and any present-day Indian tribe.

• According to final judgments of the Indian Claims Commission or the Court of Federal Claims, treaties, Acts of Congress, or Executive Orders, the land in Ballard, Calloway, Carlisle, Fulton, Marshall, and McCracken counties, KY, from which the Native American human remains were removed, is the aboriginal land of The Chickasaw Nation.

• Pursuant to 43 CFR 10.11(c)(1), the disposition of the human remains from Ballard, Calloway, Carlisle, Fulton, Marshall, and McCracken counties, KY, may be to The Chickasaw Nation.

• According to final judgments of the Indian Claims Commission or the Court of Federal Claims, treaties, Acts of Congress, or Executive Orders, the land in Logan County, KY, from which the Native American human remains were removed, is the aboriginal land of the Cherokee Nation, Eastern Band of Cherokee Indians, and United Keetoowah Band of Cherokee Indians in Oklahoma.

• Pursuant to 43 CFR 10.11(c)(1), the disposition of the human remains from Logan County, KY, may be to the Cherokee Nation, Eastern Band of Cherokee Indians, and United Keetoowah Band of Cherokee Indians in Oklahoma.

• According to final judgments of the Indian Claims Commission or the Court of Federal Claims, treaties, Acts of Congress, or Executive Orders, the land in Trigg County, KY, and Stewart County, TN, from which the Native American human remains were removed, is the aboriginal land of the Cherokee Nation, Eastern Band of Cherokee Indians, The Chickasaw Nation, and the United Keetoowah Band of Cherokee Indians in Oklahoma.

• Pursuant to 43 CFR 10.11(c)(1), the disposition of the human remains from Trigg County, KY, and Stewart County, TN, may be to the Cherokee Nation, Eastern Band of Cherokee Indians, The Chickasaw Nation, and the United Keetoowah Band of Cherokee Indians in Oklahoma.

• According to final judgments of the Indian Claims Commission or the Court of Federal Claims, treaties, Acts of Congress, or Executive Orders, the land in Hopkins County, KY, from which the Native American human remains were removed, is the aboriginal land of the Cherokee Nation, Eastern Band of Cherokee Indians, Shawnee Tribe, and United Keetoowah Band of Cherokee Indians in Oklahoma.

• Pursuant to 43 CFR 10.11(c)(1), the disposition of the human remains from Hopkins County, KY, may be to the Cherokee Nation, Eastern Band of Cherokee Indians, Shawnee Tribe, and United Keetoowah Band of Cherokee Indians in Oklahoma.

• According to final judgments of the Indian Claims Commission or the Court of Federal Claims, treaties, Acts of Congress, or Executive Orders, the land in Livingston County, KY, from which the Native American human remains were removed, is the aboriginal land of the Cherokee Nation, Eastern Band of Cherokee Indians, Shawnee Tribe, The Chickasaw Nation, and United Keetoowah Band of Cherokee Indians in Oklahoma.

• Pursuant to 43 CFR 10.11(c)(1), the disposition of the human remains from Livingston County, KY, may be to the Cherokee Nation, Eastern Band of Cherokee Indians, Shawnee Tribe, The Chickasaw Nation, and United Keetoowah Band of Cherokee Indians in Oklahoma.

Additional Requestors and Disposition

Representatives of any Indian tribe or Native Hawaiian organization not identified in this notice that wish to request transfer of control of these human remains should submit a written request with information in support of the request to Dr. Anthony Ortmann, Director, Murray State University Archaeology Laboratory, Murray, KY 42071, telephone (270) 809-6755, email aortmann@murraystate.edu, by April 6, 2017. After that date, if no additional requestors have come forward, transfer of control of the human remains to the Cherokee Nation, Eastern Band of Cherokee Indians, Shawnee Tribe, The Chickasaw Nation, and United Keetoowah Band of Cherokee Indians in Oklahoma may proceed.

The Murray State University Archaeology Laboratory is responsible for notifying the Cherokee Nation, Eastern Band of Cherokee Indians, Shawnee Tribe, The Chickasaw Nation, and United Keetoowah Band of Cherokee Indians in Oklahoma that this notice has been published.

Dated: February 6, 2017.
Melanie O'Brien,
Manager, National NAGPRA Program.

[FR Doc. 2017-04399 Filed 3-6-17; 8:45 am]

BILLING CODE 4312-52-P